DEPARTMENT OF TRANSPORTATION

Federal Aviation Administration

14 CFR Part 39

[Docket No. 99-NM-346-AD; Amendment 39-11701; AD 2000-08-15]

RIN 2120-AA64

Airworthiness Directives; Boeing Model 777 Series Airplanes

AGENCY: Federal Aviation Administration, DOT.

ACTION: Final rule.

SUMMARY: This amendment adopts a new airworthiness directive (AD), applicable to certain Boeing 777 series airplanes, that requires a one-time inspection to detect cracking of the fastener holes common to the upper wing skins and trailing edge panels of both wings, and corrective actions, if necessary. This amendment also requires coldwork of the fastener holes and installation of new or serviceable fasteners. This amendment is prompted by a report indicating that fatigue cracks have been found in the upper wing skin of both wings. The actions specified by this AD are intended to prevent fatigue cracking of the upper wing skin, which could result in reduced structural integrity of the wing.

DATES: Effective May 31, 2000.

The incorporation by reference of certain publications listed in the regulations is approved by the Director of the Federal Register as of May 31, 2000.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Stan Wood, Aerospace Engineer, Airframe Branch, ANM-120S, FAA, Transport Airplane Directorate, Seattle Aircraft Certification Office, 1601 Lind Avenue, SW., Renton, Washington 98055-4056; telephone (425) 227-2772; fax (425) 227-1181.

SUPPLEMENTARY INFORMATION: A proposal to amend part 39 of the Federal Aviation Regulations (14 CFR part 39) to include an airworthiness directive (AD) that is applicable to certain Boeing 777 series airplanes was published in the Federal Register on January 4, 2000 (65 FR 250). That action proposed to require a one-time inspection to detect cracking of the fastener holes common to the upper wing skins and trailing edge panels of both wings, and corrective actions, if necessary. That action also proposed to require coldwork of the fastener holes and installation of new or serviceable fasteners.

Comments

Interested persons have been afforded an opportunity to participate in the making of this amendment. No comments were submitted in response to the proposal or the FAA's determination of the cost to the public.

Conclusion

The FAA has determined that air safety and the public interest require the adoption of the rule as proposed.

Cost Impact

There are approximately 82 airplanes of the affected design in the worldwide fleet. The FAA estimates that 33 airplanes of U.S. registry will be affected by this AD, that it will take approximately 13 work hours per airplane to accomplish the required actions, and that the average labor rate is $60 per work hour. Required parts will cost approximately $216 per airplane. Based on these figures, the cost impact of the AD on U.S. operators is estimated to be $32,868, or $996 per airplane.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-08-15 Boeing: Amendment 39-11701. Docket 99-NM-346-AD.

Applicability: Model 777 series airplanes having line numbers 1 through 119 inclusive, except line numbers 94, 102, 104, and 118; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent fatigue cracking of the upper wing skin, which could result in reduced structural integrity of the wing, accomplish the following:

Eddy Current Inspection of Fastener Holes

(a) Prior to the accumulation of 16,000 total flight cycles or 40,000 total flight hours, whichever occurs earlier, perform a one-time eddy current inspection to detect cracking of the fastener holes common to the upper wing skins and trailing edge panels of both wings, in accordance with Boeing Alert Service Bulletin 777-57A0022, dated August 26, 1999.

Rework and Re-Inspection of Fastener Hole

(b) If any cracking is detected during the inspection required by paragraph (a) of this AD, prior to further flight, oversize the fastener hole and perform additional eddy current inspections to detect cracking of the fastener holes until all cracking is no longer detectable by means of eddy current inspection. Perform the actions in accordance with Boeing Alert Service Bulletin 777-57A0022, dated August 26, 1999. Prior to further flight, oversize the fastener hole an additional 1/32-inch minimum and measure the starting hole diameter and edge margin of the fastener hole, in accordance with the alert service bulletin.

(1) If the fastener hole diameter or the edge margin of any fastener hole is not within the limits specified in the alert service bulletin, prior to further flight, repair in accordance with a method approved by the Manager, Seattle Aircraft Certification Office (ACO), FAA, Transport Airplane Directorate, or a Boeing Company Designated Engineering Representative who has been authorized by the FAA to make such findings. For a repair method to be approved by the Manager, Seattle ACO, as required by this paragraph, the Manager's approval letter must specifically reference this AD.

(2) If the fastener hole diameter and edge margin of all the fastener holes are within the limits specified in the alert service bulletin, prior to further flight, accomplish the requirements of paragraph (c) of this AD.

Coldwork of Fastener Holes

(c) If no cracking is detected during the eddy current inspection required by paragraph (a), or the fastener hole diameter and edge margin of all the fastener holes are within the limits required by paragraph (b) of this AD, prior to further flight, coldwork the fastener holes and install new or serviceable fasteners, in accordance with Boeing Alert Service Bulletin 777-57A0022, dated August 26, 1999.

Alternative Methods of Compliance

(d) An alternative method of compliance or adjustment of the compliance time that provides an acceptable level of safety may be used if approved by the Manager, Seattle ACO. Operators shall submit their requests through an appropriate FAA Principal Maintenance Inspector, who may add comments and then send it to the Manager, Seattle ACO.

Note 2: Information concerning the existence of approved alternative methods of compliance with this AD, if any, may be obtained from the Seattle ACO.

Special Flight Permits

(e) Special flight permits may be issued in accordance with sections 21.197 and 21.199 of the Federal Aviation Regulations (14 CFR 21.197 and 21.199) to operate the airplane to a location where the requirements of this AD can be accomplished.

Incorporation by Reference

(f) Except as provided by paragraph (b)(1) of this AD, the actions shall be done in accordance with Boeing Alert Service Bulletin 777-57A0022, dated August 26, 1999. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

(g) This amendment becomes effective on May 31, 2000.

Issued in Renton, Washington, on April 18, 2000.
Donald L. Riggin,
Acting Manager, Transport Airplane Directorate, Aircraft Certification Service.

[FR Doc. 00-10160 Filed 4-25-00; 8:45 am]

BILLING CODE 4910-13-P